DEPARTMENT OF COMMERCE

National Oceanic and Atmospheric Administration

RIN 0648-BA74

National Standard 10 Guidelines; Public Meetings

AGENCY: National Marine Fisheries Service (NMFS), National Oceanic and Atmospheric Administration (NOAA), Commerce.

ACTION: Notice.

SUMMARY: On April 21, 2011, NMFS published an Advance Notice of Proposed Rulemaking (ANPR) to request public comment on potential revisions to the National Standard 10 (NS10) Guidelines and announced a public meeting to be held on May 19, 2011 in Silver Spring, Maryland. In this notice, NMFS announces several additional meetings where presentations will be given on the National Standard 10 ANPR. The public will be allowed to comment at the meetings.

DATES: Meetings are scheduled in June and July. Dates and locations of meetings are listed under ADDRESSES.

ADDRESSES: Presentations on National Standard 10 will be given at the following additional locations:

1. Joint Session of the South Atlantic Fishery Management Council and Gulf of Mexico Fishery Management Council, June 10, 2011, 1-1:45 p.m, at the Marriott Beachside Hotel, 3841 North Roosevelt Boulevard, Key West, Florida 33040.

2. Mid-Atlantic Fishery Management Council Meeting, June 16, 2011, 9-10 a.m., Danfords Hotel & Marina, 25 East Broadway, Port Jefferson, New York 11777.

3. New England Fishery Management Council Meeting, June 21, 2011, afternoon session, Holiday Inn by the Bay, 88 Spring Street, Portland, Maine 04101.

4. Swedish Cultural Center, 1920 Dexter Ave. N, Seattle, Washington 98109, July 19, 2011, 10 a.m.-noon.

The established times for the National Standard 10 presentations during the various Regional Fishery Management Council meetings may be adjusted as necessary to accommodate the timely completion of discussion relevant to other items on the Councils' agenda.

FOR FURTHER INFORMATION CONTACT: Debra Lambert, National Marine Fisheries Service, 301-713-2341.

SUPPLEMENTARY INFORMATION:

Background

National Standard 10 states: “Conservation and management measures shall, to the extent practicable, promote the safety of human life at sea.” NMFS published final guidelines for NS10 in 1998 (63 FR 24212; May 1, 1998). NMFS published an ANPR to request public comment on potential revisions to the NS10 guidelines on April 21, 2011 (76 FR 22342). More background on this action is contained in the ANPR published on April 21, 2011 (76 FR 22342) and is not repeated here.

Special Accommodations

The public meetings listed in this notice will be accessible to people with physical disabilities. Request for sign language interpretation or other auxiliary aids should be directed to Debra Lambert (301-713-2341), at least 5 days before the scheduled session.

Dated: May 19, 2011.
Margo Schulze-Haugen,
Acting Director, Office of Sustainable Fisheries, National Marine Fisheries Service.

[FR Doc. 2011-12980 Filed 5-24-11; 8:45 am]

BILLING CODE 3510-22-P